DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Sunrise Coal, LLC.

DATES: All comments on the petition must be received by MSHA's Office of Standards, Regulations, and Variances on or before April 21, 2025.

ADDRESSES: You may submit comments identified by Docket No. MSHA-2025-0029 by any of the following methods:

1. Federal eRulemaking Portal: https://www.regulations.gov. Follow the instructions for submitting comments for MSHA-2025-0029.

2. Fax: 202-693-9441.

3. Email: petitioncomments@dol.gov.

4. Regular Mail or Hand Delivery: MSHA, Office of Standards, Regulations, and Variances, 200 Constitution Ave. NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-022-C.

Petitioner: Sunrise Coal, LLC, 1183 East Canvasback Drive, Terre Haute, Indiana 47802.

Mine: Oaktown Fuels Mine No. 1, MSHA ID No. 12-02394, located in Knox County, Indiana; Oaktown Fuels Mine No. 2, MSHA ID No. 12-02418, located in Knox County, Indiana.

Regulation Affected: 30 CFR 75.500(d), Permissible electric equipment.

Modification Request: The petitioner requests a modification of the standard to allow the use of unapproved Power Air Purifying Respirators (PAPRs) in or inby the last open crosscut. Specifically, the petitioner is requesting to utilize the CleanSpace EX PAPR and sealed motor/blower/battery pack assembly, and the 3M Versaflo TR-800 Intrinsically Safe PAPR motor/blower and battery with battery pack.

The petitioner states that:

(a) The 3M Versaflo TR-800 PAPR with motor/blower and battery qualifies as intrinsically safe based on reports by the International Electrotechnical Commission System for Certification to Standards Relating to Equipment for Use in Explosive Atmospheres (IECEx). The blower is UL-certified with an intrinsically safe rating of Division 1: Class I, II, III; Division 1: Groups C, D, E, F, G; T4 under the current standard of UL 60079; ATEX-certified with a rating of “ia”. The 3M Versaflo TR-800 is rated and marked Ex ia MA, Ex ia IIB T4 Ga, Ex ia IIIC 135oC Da; 120oC<TA<55oC.

(b) The CleanSpace EX PAPR is certified to be used in hazardous locations (“Ex”) and meets the most onerous level of intrinsic safety protection (“ia”). This level of protection is acceptable for use in mining locations (“I”) and the Equipment Protection Level is appropriate for mining equipment that has a “very high” level of protection, with sufficient security that it is unlikely to become an ignition source in normal operation, during expected malfunctions or during rare malfunctions, even when left energized in the presence of an outbreak of gas (“Ma”).

(c) Both the CleanSpace EX and the 3M Versaflo TR-800 PAPRs provide a constant flow of air inside the headtop or helmet. This airflow provides respiratory protection and comfort in hot working conditions.

(d) Since the 3M Airstream Headgear-mounted PAPR system has been discontinued by the manufacturer, there are no other MSHA-approved units available for use inby the last open crosscut.

(e) Neither the 3M Versaflo TR-800 nor the CleanSpace EX PAPR is MSHA approved as permissible, and neither the 3M nor CleanSpace is pursuing MSHA approval.

(f) Sunrise Coal, LLC, currently makes available to all miners NIOSH-Approved high efficiency 100 series respirators to protect the miners against potential exposure to respirable dust, including crystalline silica, during normal mining conditions. Sunrise Coal, LLC, would like to expand the miner's option in choosing a respirator for protection as well as comfort. Powered PAPR's provide a constant flow of filtered air and serves that purpose. The PAPRs will also serve as a respirator option to protect the miners with facial hair who may not be able to pass the fit test requirement of the program. In addition, the positive flow of filtered air will provide a solution for the miners who are unable to wear a tight-fitting respirator.

(g) The alternate method proposed by the petitioner will at all times guarantee no less than the same measure of protection under the mandatory standard.

The petitioner proposes the following alternative method:

(a) All miners who will be involved with or affected by the use of the 3M Versaflo TR-800 or CleanSpace EX PAPRs shall receive training in accordance with 30 CFR 48.7 on the requirements of the Proposed Decision and Order (PDO) granted by MSHA and manufacturer guidelines. Such training shall be completed before any 3M Versaflo TR-800 or CleanSpace EX PAPR can be used inby the last open crosscut. A record of such training shall be kept and provided upon request.

(b) The PAPRs, battery packs, and all associated wiring connections shall be inspected before use to determine if there was any damage to the unit that would negatively impact intrinsic safety. If any defects are found, the PAPR shall be removed from service.

(c) A record book shall be maintained for the 3M Versaflo TR-800 and CleanSpace EX PAPRs that shall be kept with other mine record books and shall be made available to MSHA upon request. The equipment shall be examined at least weekly by a qualified person as defined in 30 CFR 75.512-1 and the exam results recorded and maintained for one year.

(d) All 3M Versaflo TR-800 and CleanSpace EX PAPRs to be used inby the last open crosscut shall be physically examined prior to initial use and each unit shall be assigned a unique identification number. Each unit shall be examined by the person to operate the equipment prior to taking the equipment underground to ensure the equipment is used according to the original equipment manufacturer's recommendations and maintained in a safe operating condition. The examination for the 3M Versaflo TR-800 shall include:

(1) Check the equipment for any physical damage and the integrity of the case;

(2) Remove the battery and inspect for corrosion;

(3) Inspect the contact points to ensure connection to the battery;

(4) Reinsert the battery and power up and shut down to ensure proper connections; and

(5) Check the battery compartment cover or battery attachment to ensure that it is securely fastened.

(e) The CleanSpace EX PAPR does not have an accessible/removable battery. The internal battery and motor/blower assembly are both contained within the “power unit” assembly and the battery cannot be removed, reinserted or fastened. Therefore, examination of the CleanSpace EX shall include any indications of physical damage.

(f) All 3M Versaflo TR-800 and CleanSpace EX PAPR units shall be serviced according to the manufacturer's recommendations.

(g) Prior to energizing and during use of the 3M Versaflo TR-800 or the CleanSpace EX PAPR inby the last open crosscut, procedures in accordance with 30 CFR 75.323 shall be followed.

(h) All battery changes for the 3M Versaflo TR-800 PAPR shall occur in intake air outby the last open crosscut.

(i) When not in operation, the batteries for the 3M Versaflo TR-800 and the CleanSpace EX PAPRS shall be charged on the surface or in intake air outby the last open crosscut.

(j) Qualified miners shall receive training on how to safely use, care for, and inspect the PAPRs, and the PDO granted by MSHA before using the equipment in the relevant part of the mine. A record of the training shall be kept and made available upon request.

(k) The miners at Sunrise Coal, LLC, are not represented by a labor organization and there are no representatives of miners at the mine. A copy of this revised petition has been posted on the bulletin board at Sunrise Coal, LLC, on February 11, 2025.

The petitioner asserts that the alternative method will guarantee no less than the same measure of protection afforded the miners under the mandatory standard.

Song-ae Aromie Noe,
Director, Office of Standards, Regulations, and Variances.

[FR Doc. 2025-04717 Filed 3-19-25; 8:45 am]

BILLING CODE 4520-43-P